DEPARTMENT OF TRANSPORTATION

Federal Railroad Administration

[Docket Number FRA-2017-0034]

Notice of Application for Approval of Discontinuance or Modification of a Railroad Signal System

Under part 235 of Title 49 of the Code of Federal Regulations (CFR) and 49 U.S.C. 20502(a), this document provides public notice that on April 20, 2017, Union Pacific Railroad (UP) petitioned the Federal Railroad Administration (FRA) seeking approval for the discontinuance or modification of a signal system. FRA assigned the petition Docket Number FRA-2017-0034.

Applicant: Union Pacific Railroad, Mr. Kevin D. Hicks, AVP Engineering-Design, 1400 Douglas Street, MS 0910, Omaha, NE 68179.

UP seeks approval to discontinue the traffic control system on the Pequot Subdivision, between milepost (MP) 56.90 and MP 62.75 in the cities of Mazon, Braceville, and Coal City, IL. The subdivision will be converted to a non-signaled industrial lead.

The reason given for the proposed discontinuance is to allow the track currently out of service per Timetable Special Instruction SI-01, between MP 58.69 and MP 62.75, to be re-opened to service an industry project for Hoffman Transportation, whose facility will begin at the end of the proposed industrial lead at MP 59.77. UP will discontinue its common carrier operation between MP 59.77 and MP 56.75 per Surface Transportation Board Docket AB-333X. UP will upgrade and return to service the highway-rail grade crossing warning equipment within the project's limits at MP's 58.69 Spring Road, MP 59.78 Reed Road, and MP 61.71, Braceville Road. The north switch on the BNSF Railway at MP 56.90 was previously removed.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 23, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-10247 Filed 5-18-17; 8:45 am]

BILLING CODE 4910-06-P